DEPARTMENT OF TRANSPORTATION

Federal Aviation Administration

14 CFR Part 71

[Docket No. FAA-2018-0232; Airspace Docket No. 17-ANM-33]

RIN 2120-AA66

Proposed Amendment and Establishment of Multiple Air Traffic Service (ATS) Routes; Western United States

AGENCY: Federal Aviation Administration (FAA), DOT.

ACTION: Notice of proposed rulemaking (NPRM).

SUMMARY: This action proposes to amend six United States Area Navigation (RNAV) routes (Q-88, Q-90, Q-114, Q-126, Q-136, and Q-150) and establish one RNAV route (Q-92) in the western United States. The routes would support standard instrument departures (SIDs) and standard terminal arrival routes (STARs) for Denver International Airport. Additionally, the routes will promote operational efficiencies for users and provide connectivity to current and proposed RNAV enroute procedures while enhancing capacity for adjacent airports.

DATES: Comments must be received on or before July 2, 2018.

ADDRESSES: Send comments on this proposal to the U.S. Department of Transportation, Docket Operations, 1200 New Jersey Avenue SE, West Building Ground Floor, Room W12-140, Washington, DC 20590; telephone: 1(800) 647-5527, or (202) 366-9826. You must identify FAA Docket No. FAA-2018-0232; Airspace Docket No. 17-ANM-33 at the beginning of your comments. You may also submit comments through the internet at http://www.regulations.gov.

FAA Order 7400.11B, Airspace Designations and Reporting Points, and subsequent amendments can be viewed online at http://www.faa.gov/air_traffic/publications/. For further information, you can contact the Airspace Policy Group, Federal Aviation Administration, 800 Independence Avenue SW, Washington, DC, 20591; telephone: (202) 267-8783. The Order is also available for inspection at the National Archives and Records Administration (NARA). For information on the availability of FAA Order 7400.11B at NARA, call (202) 741-6030, or go to https://www.archives.gov/federal-register/cfr/ibr-locations.html.

FAA Order 7400.11, Airspace Designations and Reporting Points, is published yearly and effective on September 15.

FOR FURTHER INFORMATION CONTACT: Kenneth Ready, Airspace Policy Group, Office of Airspace Services, Federal Aviation Administration, 800 Independence Avenue SW, Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it modifies the route structure as necessary to support the flow of air traffic within the National Airspace System.

Comments Invited

Interested parties are invited to participate in this proposed rulemaking by submitting such written data, views, or arguments as they may desire. Comments that provide the factual basis supporting the views and suggestions presented are particularly helpful in developing reasoned regulatory decisions on the proposal. Comments are specifically invited on the overall regulatory, aeronautical, economic, environmental, and energy-related aspects of the proposal. Communications should identify both docket numbers (FAA Docket No. FAA-2018-0232; Airspace Docket No. 17-ANM-33) and be submitted in triplicate to the Docket Management Facility (see ADDRESSES section for address and phone number). You may also submit comments through the internet at http://www.regulations.gov.

Commenters wishing the FAA to acknowledge receipt of their comments on this action must submit with those comments a self-addressed, stamped postcard on which the following statement is made: “Comments to FAA Docket No. FAA-2018-0232; Airspace Docket No. 17-ANM-33.” The postcard will be date/time stamped and returned to the commenter.

All communications received on or before the specified comment closing date will be considered before taking action on the proposed rule. The proposal contained in this action may be changed in light of comments received. All comments submitted will be available for examination in the public docket both before and after the comment closing date. A report summarizing each substantive public contact with FAA personnel concerned with this rulemaking will be filed in the docket.

Availability of NPRMs

An electronic copy of this document may be downloaded through the internet at http://www.regulations.gov. Recently published rulemaking documents can also be accessed through the FAA's web page at http://www.faa.gov/air_traffic/publications/airspace_amendments/.

You may review the public docket containing the proposal, any comments received and any final disposition in person in the Dockets Office (see ADDRESSES section for address and phone number) between 9:00 a.m. and 5:00 p.m., Monday through Friday, except Federal holidays. An informal docket may also be examined during normal business hours at the office of the Western Service Center, Operations Support Group, Federal Aviation Administration, 2200 South 216th St., Des Moines, WA 98198.

Availability and Summary of Documents for Incorporation by Reference

This document proposes to amend FAA Order 7400.11B, airspace Designations and Reporting Points, dated August 3, 2017, and effective September 15, 2017. FAA Order 7400.11B is publicly available as listed in the ADDRESSES section of this document. FAA Order 7400.11B lists Class A, B, C, D, and E airspace areas, air traffic service routes, and reporting points.

Background

The Denver, Salt Lake City, and Minneapolis Air Route Traffic Control Centers (ARTCCs) requested the FAA to amend six existing and establish one new RNAV Q-Routes. These routes would support new SIDs and STARs that are being developed for Denver International Airport and surrounding airports. Moreover, the current routes are being amended to connect the midwest and east coast airports with west coast airports. Additional waypoints are being strategically added to existing routes over the Rocky Mountains to provide more flexibility in route planning to avoid mountain wave effect (severe turbulence, strong vertical currents, and icing) and to provide flexibility in flight planning for oxygen escape routes (oxygen escape routes are used in the event of cabin depressurization during a flight).

Furthermore, amending the six existing routes and adding the one new route will facilitate the implementation of traffic management initiatives such as adjacent ARTCC metering (ACM) and time based flow management.

The Proposal

The FAA is proposing an amendment to Title 14, Code of Federal Regulations (14 CFR) part 71 to modify United States RNAV routes Q-88, Q-90, Q-114, Q-126, Q-136, Q-150; and establish United States RNAV route Q-92. The proposed route changes are outlined below.

Q-88: Q-88 currently extends from waypoint HAKMN, NV to waypoint CHESZ, UT. The amended route would connect airports in the northeastern United States (U.S.) and Canada with Los Angeles and Las Vegas. As well as, provide Denver International Airport departures to the north a routing to Minneapolis.

Q-90: Q-90 currently extends from waypoint DNERO, CA to waypoint JASSE, AZ. The amended route would add connection to Chicago O'Hare Airport. Additionally, the route would provide an alternate south departure route from Denver International airport to the Los Angeles, CA, basin satellite airports.

Q-92: Would be established to support departures from Denver International Airport bound for airports in the midwest and east coast.

Q-114: Q-114 currently extends from waypoint NATEE, NV to waypoint BUGGG, UT. The amended route would connect Chicago area airports to the Los Angeles basin airports. Additionally, the amended route would support Denver International Airport west departures to the Los Angeles, CA, basin satellite airports.

Q-126: Q-126 currently extends from waypoint TIPRE, CA to VOR/DME Meeker, CO, (EKR). The amended route would link airports on the U.S. west coast to airports in the midwest. Q-126 would add utility by supporting Denver International Airport arrival traffic from the west. Additional waypoints were added to the airway to provide for oxygen escape routes.

Q-136: Q-136 currently extends from VORTAC Coaldale, NV (OAL) to FIX VOAXA, CO. The amended route would link airports on the U.S. west coast to airports in the midwest. Q-136 would support Denver International Airport west departures to the San Francisco Bay area and departures to the midwest and east coast airports. Additional waypoints were added to the airway to provide for oxygen escape routes.

Q-150: Q-150 currently extends from waypoint STEVS, WA to waypoint OPPEE, WY. The amended route would support overflight traffic between Seattle area airports and Dallas/Ft. Worth, Houston, as well as Calgary and Edmonton airports in Canada. Q-150 would support Denver departures enroute to Boise, ID; Portland, OR; and Seattle, WA.

United States Area Navigation Routes are published in paragraph 2006 of FAA Order 7400.11B dated August 3, 2017, and effective September 15, 2017, which is incorporated by reference in 14 CFR 71.1. The United States Area Navigation Routes listed in this document will be subsequently published in the Order.

Regulatory Notices and Analyses

The FAA has determined that this proposed regulation only involves an established body of technical regulations for which frequent and routine amendments are necessary to keep them operationally current. It, therefore: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this proposed rule, when promulgated, will not have a significant economic impact on a substantial number of small entities under the criteria of the Regulatory Flexibility Act.

Environmental Review

This proposal will be subject to an environmental analysis in accordance with FAA Order 1050.1F, “Environmental Impacts: Policies and Procedures” prior to any FAA final regulatory action.

List of Subjects in 14 CFR Part 71

Airspace, Incorporation by reference, Navigation (air).

The Proposed Amendment

In consideration of the foregoing, the Federal Aviation Administration proposes to amend 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order 7400.11B, Airspace Designations and Reporting Points, dated August 3, 2017 and effective September 15, 2017, is amended as follows:

Paragraph 2006—United States Area Navigation Routes

Q-88 HAKMN, NV to DKOTA, SD [Amended]

HAKMN, NV WP

(Lat. 35°30′28.31′ N, long. 115°04′47.04″ W)

LAKRR, NV WP

(Lat. 36°05′07.72′ N, long. 114°17′09.16″ W)

PROMT, UT WP

(Lat. 37°30′06.70′ N, long. 111°52′12.94″ W)

ZAKRY, CO WP

(Lat. 39°22′47.16′ N, long. 107°12′15.76″ W)

CHUWY, NE WP

(Lat. 41°30′42.77′ N, long. 102°52′39.47″ W)

VIVID, SD FIX

(Lat. 43°51′37.63′ N, long. 099°59′15.44″ W)

DKOTA, SD WP

(Lat. 45°22′17.00′ N, long. 097°37′27.00″ W)

* * * * *

Q-90 DNERO, CA to WELKY, IA [Amended]

DNERO, CA WP

(Lat. 35°02′07.14′ N, long. 114°54′16.39″ W)

YAMHA, CO WP

(Lat. 37°04′15.31′ N, long. 108°51′39.33″ W)

DAAYE, CO WP

(Lat. 38°00′40.43′ N, long. 105°46′44.19″ W)

WELKY, IA WP

(Lat. 40°38′57.01′ N, long. 093°33′40.60″ W)

* * * * *

Q-92 CHUWY, NE to JORDY, IA [New]

CHUWY, NE WP

(Lat. 41°30′42.77′ N, long. 102°52′39.47″ W)

KUTCH, NE WP

(Lat. 41°48′23.73′ N, long. 101°01′44.06″ W)

MAASI, NE WP

(Lat. 41°59′36.09′ N, long. 097°34′21.90″ W)

JORDY, IA FIX

(Lat. 42°05′11.53′ N, long. 093°31′32.82″ W)

* * * * *

Q-114 NATEE, NV to LEONG, IA [Amended]

NATEE, NV WP

(Lat. 35°37′14.00′ N, long. 115°22′26.00″ W)

BAWER, UT WP

(Lat. 37°38′06.68′ N, long. 112°16′45.89″ W)

AVVVS, CO FIX

(Lat. 40°02′07.82′ N, long. 104°46′03.16″ W)

AYOLE, NE WP

(Lat. 41°08′59.40′ N, long. 100°43′20.63″ W)

LEONG, IA WP

(Lat. 41°24′02.01′ N, long. 093°44′57.66″ W)

* * * * *

Q-126 TIPRE, CA to BRAFF, CO [Amended]

TIPRE, CA WP

(Lat. 38°12′21.00′ N, long. 121°02′09.00″ W)

INSLO, NV WP

(Lat. 38°40′44.90′ N, long. 117°17′53.20″ W)

LBATO, UT WP

(Lat. 39°47′17.82′ N, long. 110°04′48.60″ W)

BASNN, CO WP

(Lat. 39°55′53.98′ N, long. 109°00′50.73″ W)

BRAFF, CO WP

(Lat. 40°08′35.62′ N, long. 104°23′26.75″ W)

* * * * *

Q-136 COALDALE, NV (OAL) to BAACN, IA [Amended]

COALDALE, NV (OAL) VORTAC

(Lat. 38°00′11.74′ N, long. 117°46′13.60″ W)

RUMPS, NV WP

(Lat. 38°07′10.00′ N, long. 117°16′15.00″ W)

KATTS, NV WP

(Lat. 38°20′00.00′ N, long. 116°20′00.00″ W)

WEEMN, UT WP

(Lat. 39°21′57.00′ N, long. 109°58′02.80″ W)

COUGH, CO WP

(Lat. 39°53′45.04′ N, long. 105°14′56.79″ W)

ZIRKL, NE WP

(Lat. 40°07′56.94′ N, long. 101°22′17.29″ W)

BAACN, IA WP

(Lat. 40°58′29.04′ N, long. 093°47′25.79″ W)

* * * * *

Q-150 STEVS, WA to EXHAS, KS [Amended]

STEVS, WA WP

(Lat. 47°14′54.49′ N, long. 120°32′09.93″ W)

GANNE, WY WP

(Lat. 43°18′37.17′ N, long. 109°30′23.85″ W)

DUUZE, KS WP

(Lat. 38°51′00.00′ N, long. 101°42′00.00″ W)

EXHAS, KS WP

(Lat. 38°20′04.70′ N, long. 101°09′35.23″ W)

Issued in Washington, DC, on May 10, 2018.
Scott M. Rosenbloom,
Acting Manager, Airspace Policy Group.

[FR Doc. 2018-10446 Filed 5-16-18; 8:45 am]

BILLING CODE 4910-13-P